DEPARTMENT OF THE INTERIOR

Bureau of Land Management

[LLOROR957000-L62510000-PM000: HAG10-0255]

Filing of Plats of Survey: Oregon/Washington

AGENCY: Bureau of Land Management, Interior.

ACTION: Notice.

SUMMARY: The plats of survey of the following described lands are scheduled to be officially filed in the Bureau of Land Management Oregon/Washington State Office, Portland, Oregon, 30 days from the date of this publication.

Willamette Meridian

Oregon

T. 7 S., R. 9 W., accepted April 12, 2010

T. 39 S., R. 2 E., accepted April 26, 2010

T. 33 S., R. 7 W., accepted April 26, 2010

T. 33 S., R. 2 E., accepted April 26, 2010

T. 19 S., R. 7 W., May 3, 2010

T. 14 S., R. 2 W., May 3, 2010

T. 31 S., R. 6 W., May 4, 2010

T. 31 S., R. 6 W., May 4, 2010

T. 30 S., R. 7 W., May 4, 2010

T. 30 S., R. 8 W., May 4, 2010

T. 22 S., R. 8 W., May 4, 2010

Washington

T. 39 N., R. 43 E., accepted April 26, 2010

T. 17 N., R. 9 W., accepted April 29, 2010

T. 38 N., R. 2 E., accepted May 3, 2010

ADDRESSES: A copy of the plats may be obtained from the Land Office at the Oregon/Washington State Office, Bureau of Land Management, 333 SW. 1st Avenue, Portland, Oregon 97204, upon required payment. A person or party who wishes to protest against a survey must file a notice that they wish to protest (at the above address) with the Oregon/Washington State Director, Bureau of Land Management, Portland, Oregon.

FOR FURTHER INFORMATION CONTACT: Chief, Branch of Geographic Sciences, Bureau of Land Management, 333 SW. 1st Avenue, Portland, Oregon 97204.

Cathie Jensen,
Branch of Land, Mineral, and Energy Resources.

[FR Doc. 2010-12164 Filed 5-20-10; 8:45 am]

BILLING CODE 4310-33-P